DEPARTMENT OF ENERGY

Federal Energy Regulatory Commission

Combined Notice of Filings #1

Take notice that the Commission received the following exempt wholesale generator filings:

Docket Numbers: EG21-127-000.

Applicants: Samson Solar Energy III LLC.

Description: Notice of Self-Certification of Exempt Wholesale Generator Status of Samson Solar Energy III LLC.

Filed Date: 4/16/21.

Accession Number: 20210416-5102.

Comments Due: 5 p.m. ET 5/7/21.

Take notice that the Commission received the following electric rate filings:

Docket Numbers: ER17-801-012.

Applicants: Constellation Power Source Generation, LLC.

Description: Compliance filing: Settlement Compliance Filing to be effective 10/20/2019.

Filed Date: 4/16/21.

Accession Number: 20210416-5174.

Comments Due: 5 p.m. ET 5/7/21.

Docket Numbers: ER20-2452-002.

Applicants: Hamilton Liberty LLC.

Description: Compliance filing: Supplement to Informational Filing & Requests for Waiver & Expedited Action to be effective 7/18/2020.

Filed Date: 4/16/21.

Accession Number: 20210416-5104.

Comments Due: 5 p.m. ET 5/7/21.

Docket Numbers: ER20-2453-003.

Applicants: Hamilton Patriot LLC.

Description: Compliance filing: Supplement to Informational Filing & Requests for Waiver & Expedited Action to be effective 7/18/2020.

Filed Date: 4/16/21.

Accession Number: 20210416-5108.

Comments Due: 5 p.m. ET 5/7/21.

Docket Numbers: ER21-254-003.

Applicants: Harmony Florida Solar, LLC.

Description: Compliance filing: Harmony Florida Solar, LLC Compliance Filing to be effective 12/29/2020.

Filed Date: 4/16/21.

Accession Number: 20210416-5149.

Comments Due: 5 p.m. ET 5/7/21.

Docket Numbers: ER21-502-002.

Applicants: New York Independent System Operator, Inc.

Description: Compliance filing: Compliance Demand Curve Reset to be effective 4/9/2021.

Filed Date: 4/16/21.

Accession Number: 20210416-5181.

Comments Due: 5 p.m. ET 5/7/21.

Docket Numbers: ER21-1691-000.

Applicants: Midcontinent Independent System Operator, Inc.

Description: § 205(d) Rate Filing: 2021-04-16_SA 3476 ATC-Grant County Solar 1st Rev GIA (J947) to be effective 4/2/2021.

Filed Date: 4/16/21.

Accession Number: 20210416-5017.

Comments Due: 5 p.m. ET 5/7/21.

Docket Numbers: ER21-1692-000.

Applicants: PJM Interconnection, L.L.C.

Description: § 205(d) Rate Filing: Original WMPA SA No. 6028; Queue No. AF2-378 to be effective 3/29/2021.

Filed Date: 4/16/21.

Accession Number: 20210416-5039.

Comments Due: 5 p.m. ET 5/7/21.

Docket Numbers: ER21-1693-000.

Applicants: PJM Interconnection, L.L.C.

Description: § 205(d) Rate Filing: Original WMPA SA No. 6029; Queue No. AG1-140 to be effective 4/5/2021.

Filed Date: 4/16/21.

Accession Number: 20210416-5065.

Comments Due: 5 p.m. ET 5/7/21.

Docket Numbers: ER21-1694-000.

Applicants: ISO New England Inc., Green Mountain Power Corporation.

Description: Compliance filing: Green Mountain Power; Supplement to Order No. 864 Compliance Filing to be effective 1/1/2020.

Filed Date: 4/16/21.

Accession Number: 20210416-5090.

Comments Due: 5 p.m. ET 5/7/21.

Docket Numbers: ER21-1696-000.

Applicants: Bluestone Farm Solar, LLC.

Description: Baseline eTariff Filing: Reactive Power Compensation Filing to be effective 5/1/2021.

Filed Date: 4/16/21.

Accession Number: 20210416-5093.

Comments Due: 5 p.m. ET 5/7/21.

Docket Numbers: ER21-1697-000.

Applicants: PJM Interconnection, L.L.C.

Description: § 205(d) Rate Filing: Original WMPA SA No. 6030; Queue No. AG1-145 to be effective 4/5/2021.

Filed Date: 4/16/21.

Accession Number: 20210416-5105.

Comments Due: 5 p.m. ET 5/7/21.

Docket Numbers: ER21-1698-000.

Applicants: New York State Electric & Gas Corporation, New York Independent System Operator, Inc.

Description: § 205(d) Rate Filing: NYSEG 205 filing of EPA between NYSEG andBluestone Wind SA No. 2616 to be effective 4/16/2021.

Filed Date: 4/16/21.

Accession Number: 20210416-5117.

Comments Due: 5 p.m. ET 5/7/21.

Docket Numbers: ER21-1699-000.

Applicants: Southern California Edison Company.

Description: § 205(d) Rate Filing: LGIA Luz Solar Partners LTD., IX, LP Kramer Junction 9 SA No. 264 to be effective 4/18/2021.

Filed Date: 4/16/21.

Accession Number: 20210416-5134.

Comments Due: 5 p.m. ET 5/7/21.

Docket Numbers: ER21-1700-000.

Applicants: Alabama Power Company.

Description: § 205(d) Rate Filing: Americus Solar (Americus Solar II) LGIA Amendment Filing to be effective 3/10/2021.

Filed Date: 4/16/21.

Accession Number: 20210416-5190.

Comments Due: 5 p.m. ET 5/7/21.

Docket Numbers: ER21-1701-000.

Applicants: Alabama Power Company.

Description: Initial rate filing: Cooperative Energy Morrow CC Affected System Upgrade Agreement Filing to be effective 3/31/2021.

Filed Date: 4/16/21.

Accession Number: 20210416-5192.

Comments Due: 5 p.m. ET 5/7/21.

Docket Numbers: ER21-1702-000.

Applicants: ISO New England Inc., Central Maine Power Company.

Description: Compliance filing: Central Maine Power; Order No. 864 Supplemental Compliance Filing to be effective 1/1/2020.

Filed Date: 4/16/21.

Accession Number: 20210416-5199.

Comments Due: 5 p.m. ET 5/7/21.

Docket Numbers: ER21-1703-000.

Applicants: Georgia Power Company.

Description: Initial rate filing: Cooperative Energy Morrow CC Affected System Upgrade Agreement Filing to be effective 3/31/2021.

Filed Date: 4/16/21.

Accession Number: 20210416-5210.

Comments Due: 5 p.m. ET 5/7/21.

Docket Numbers: ER21-1704-000.

Applicants: Mississippi Power Company.

Description: Initial rate filing: Cooperative Energy Morrow CC Affected System Upgrade Agreement Filing to be effective 3/31/2021.

Filed Date: 4/16/21.

Accession Number: 20210416-5211.

Comments Due: 5 p.m. ET 5/7/21.

Docket Numbers: ER21-1705-000.

Applicants: Avista Corporation.

Description: § 205(d) Rate Filing: Avista Corp LTF PTP Agreement T-1179 to be effective 5/1/2021.

Filed Date: 4/16/21.

Accession Number: 20210416-5238.

Comments Due: 5 p.m. ET 5/7/21.

Docket Numbers: ER21-1706-000.

Applicants: Tri-State Generation and Transmission Association, Inc., Southwest Power Pool, Inc.

Description: Compliance filing: Tri-State Generation and Transmission Assoc., Inc. Order 864 Compliance Filing to be effective 1/27/2020.

Filed Date: 4/16/21.

Accession Number: 20210416-5285.

Comments Due: 5 p.m. ET 5/7/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 16, 2021.
Kimberly D. Bose,
Secretary.

[FR Doc. 2021-08382 Filed 4-21-21; 8:45 am]

BILLING CODE 6717-01-P